NUCLEAR REGULATORY COMMISSION

10 CFR Part 32

[Docket No. PRM-32-05]

Metabolic Solutions: Denial of Petition for Rulemaking; Correction

AGENCY: Nuclear Regulatory Commission.

ACTION: Denial of petition for rulemaking; correction.

SUMMARY: This document corrects the denial of a petition for rulemaking filed by Metabolic Solutions published in the Federal Register on April 24, 2000 (65 FR 21673). The ADDRESSES section of the notice contains language that requests public comment that was inadvertently included in the notice. This action is necessary to indicate that the NRC is not soliciting public comments because the denial is the final NRC action on the petition for rulemaking.

FOR FURTHER INFORMATION CONTACT: David L. Meyer, Chief, Rules and Directives Branch, Division of Administrative Services, Office of Administration, telephone (301) 415-7162.

SUPPLEMENTARY INFORMATION: On page 21673, in the first column, the ADDRESSES section is removed because the NRC is not soliciting public comments and the denial is the final NRC action on this petition for rulemaking.

Dated at Rockville, Maryland, this 1st day of May 2000.
For the Nuclear Regulatory Commission.
David L. Meyer,
Chief, Rules and Directives Branch, Division of Administrative Services, Office of Administration.

[FR Doc. 00-11244 Filed 5-4-00; 8:45 am]

BILLING CODE 7590-01-U